DEPARTMENT OF THE INTERIOR

Bureau of Land Management

[WY-080-1430-EU, WYW-115003, WYW-148855]

Notice of Realty Modified Competitive Sale of Public Lands

AGENCY: Bureau of Land Management, Interior.

ACTION: Modified Competitive Sale of Public Lands in Weston County, WY.

SUMMARY: The following public surface estate has been determined to be suitable for disposal by modified competitive sale under Section 203 of the Federal Land Policy and Management Act (FLPMA) of 1976, (90 STAT. 2750; 43 U.S.C. 1713) and the Federal Land Transaction Facilitation Act of 2000, Public Law No. 106-248, July 25, 2000. The Bureau of Land Management (BLM) is required to receive fair market value for the land sold and any bid for less than fair market value will be rejected. The BLM may accept or reject any and all offers, or withdraw any land or interest in the land for sale if the sale would not be consistent with FLPMA or other applicable law.

Sixth Principal Meridian

Parcel Number 1 (WYW-115003)

T. 48 N., R. 60 W.,

Sec. 7, lot 4.

39.56 acres.

Parcel Number 2 (WYW-148855)

T. 48 N., R. 60 W.,

Sec. 18, lot 5.

42.44 acres.

FOR FURTHER INFORMATION CONTACT: Bill Hill, Field Manager, BLM Newcastle Field Office, 1101 Washington Blvd., Newcastle, WY 82701, 307-746-6600.

SUPPLEMENTARY INFORMATION: This sale is consistent with BLM policies and the Newcastle Resource Management Plan. In accordance with section 7 of the Taylor Grazing Act, 43 U.S.C. 315f, and Executive Order No. 6910, the described lands are hereby classified for disposal by sale. The purpose of this sale is to dispose of two isolated parcels of public lands that have no legal access. The fair market values, planning document, and environmental assessment covering the proposed sale will be available for review at the BLM Newcastle Field Office, Newcastle, WY.

The parcels will be offered by modified competitive sale to only the adjoining landowners. The adjoining landowners will be required to submit proof of adjoining landownership before a bid can be accepted.

The publication of this Notice of Realty Action in the Federal Register shall segregate the above public lands from appropriation under the public land laws, including the mining laws. Any subsequent application shall not be accepted, shall not be considered as filed and shall be returned to the applicant if the Notice segregates the land from the use applied for in the application. The segregative effect of this Notice will terminate upon issuance of a conveyance document, 270 days from the date of publication of this Notice, or when a cancellation Notice is published, whichever occurs first.

Sale Procedures

1. All bidders must be U.S. citizens, 18 years of age or older, corporations authorized to own real estate in the State of Wyoming, a state, state instrumentality or political subdivision authorized to hold property, or an entity legally capable of conveying and holding land or interests in WY.

2. Sealed bidding is the only acceptable method of bidding. A bid must be received in the BLM Newcastle Field Office by 2 p.m., July 24, 2002, at which time the sealed bid envelopes will be opened and the high bid announced. The high bidder will be notified in writing within 30 days whether or not the BLM can accept the bid. The sealed bid envelope must be marked on the front lower left-hand corner with the words “Public Land Sale, (WYW-115003) or (WYW-148855), Sale held July 24, 2002.”

3. All sealed bids must be accompanied by a payment of not less than 10 percent of the total bid. Each bid and final payment must be accompanied by certified check, money order, bank draft, or cashier's check made payable to: Department of the Interior-BLM.

4. Failure to pay the remainder of the full bid price within 180 days of the sale will disqualify the bidder and the deposit shall be forfeited and disposed of as other receipts of the sale.

5. If 2 or more envelopes containing valid bids of the same amount are received, the determination of which is to be considered the highest bid shall be by supplemental biddings. The designated high bidders shall be allowed to submit oral or sealed bids as designated by the Authorized Officer.

6. If any parcels fail to sell, they will be reoffered for sale under competitive procedures. For reoffered land, bids must be received in the Newcastle Field Office by 2 p.m. on the fourth Wednesday of each month beginning August 28, 2002. Reoffered land will remain available for sale until sold or until the sale action is canceled or terminated. Reappraisals of the parcel will be made periodically to reflect the current fair market value. If the fair market value of the parcel changes, the land will remain open for competitive bidding according to the procedures and conditions of this notice.

Patent Terms and Conditions

Any patent issued will be subject to all valid existing rights.

Specific patent reservations include:

1. A right-of-way thereon for ditches or canals constructed by the authority of the United States pursuant to the Act of August 30, 1890 (43 U.S.C. 945).

2. All minerals will be reserved to the United States, together with the right to prospect for, mine, and remove the minerals. A more detailed description of this reservation, which will be incorporated into the patent document, is available for review at the BLM Newcastle Field Office.

3. Harry Borgialli is the grazing lessee (GR-498041) on parcel WYW115003 and parcel WYW148855. Any conveyance will be subject to the existing grazing use of Harry Borgialli. The rights of Harry Borgialli to graze domestic livestock on the real estate according to the conditions and terms of grazing authorization No. GR-498041 shall cease on September 25, 2003. The successful bidder is entitled to receive annual grazing fees from Harry Borgialli in an amount not to exceed that which would be authorized under the Federal grazing fee published in the Federal Register.

Classification Comments: Interested parties may submit comments regarding the classification of the land as suitable for disposal through sale.

Application Comments: For a period of 45 days from the date of this notice, interested parties may submit comments to the Field Manager, BLM Newcastle Field Office, 1101 Washington Blvd., Newcastle, WY 82701. Any adverse comments will be evaluated by the State Director. In the absence of any adverse comments, the classification will become effective 60 days from the date of publication of this notice in the Federal Register.

Dated: April 19, 2002.
Bill Hill,
Field Manager.

[FR Doc. 02-12906 Filed 5-22-02; 8:45 am]

BILLING CODE 4310-22-P